DEPARTMENT OF JUSTICE

Notice of Lodging of Proposed Consent Decree Under the Clean Air Act

On May 15, 2017, the Department of Justice lodged a proposed Consent Decree with the United States District Court for the District of Minnesota in the lawsuit entitled United States and Minnesota v. Mesabi Nugget Delaware, LLC, Civil Action No. 0:17-cv-01606-RHK.

The United States and Minnesota filed this Complaint asserting 15 claims under the Clean Air Act against Mesabi Nugget Delaware, LLC, an iron nugget producer that owns and operates a plant located near Hoyt Lakes, Minnesota. The Complaint alleges violations of various emissions limits for mercury, particulate matter, and other pollutants as set forth in Mesabi Nugget's Title V Permit. Under the proposed Consent Decree, Mesabi Nugget will pay $150,000 as a civil penalty and agrees, prior to restarting the currently idled facility, to implement various measures to improve its monitoring and control of emissions and to comply with interim emission limits while working with the State to refine certain emission limits.

The publication of this notice opens a period for public comment on the Consent Decree. Comments should be addressed to the Assistant Attorney General, Environment and Natural Resources Division and should refer to United States and Minnesota v. Mesabi Nugget Delaware, LLC, D.J. Ref. No. 90-5-2-1-10952. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $18.00 (25 cents per page reproduction cost) payable to the United States Treasury.

Randall M. Stone,
Acting Assistant Section Chief, Environmental Enforcement Section, Environment and Natural Resources Division.

[FR Doc. 2017-10208 Filed 5-18-17; 8:45 am]

BILLING CODE 4410-15-P